DEPARTMENT OF THE INTERIOR

Geological Survey

Technology Transfer Act of 1986; Notice

AGENCY: U.S. Geological Survey.

ACTION: Notice of proposed Cooperative Research & Development Agreement (CRADA) Negotiations.

SUMMARY: The United States Geological Survey (USGS) is contemplating entering into a Cooperative Research and Development Agreement (CRADA) with OptiQuest Technologies, LLC to develop a water quality model and automated systems for quality control and visualization.

Inquiries: If any other parties are interested in similar activities with the USGS, please contact: Paul A. Conrads, USGS South Carolina District, Stephenson Center Suite, 129 720 Gracern Road, Columbia, SC 29210 phone: (803) 750-6140.

SUPPLEMENTARY INFORMATION: This notice is submitted to meet the USGS policy requirements stipulated in Survey Manual Chapter 500.20.

Dated: December 7, 2001.
Robert M. Hirsch,
Associate Director for Water.

[FR Doc. 01-32065 Filed 12-28-01; 8:45 am]

BILLING CODE 4310-Y7-M